DEPARTMENT OF HOMELAND SECURITY

Federal Emergency Management Agency

44 CFR Part 65

[Docket ID FEMA-2011-0002; Internal Agency Docket No. FEMA-B-1172]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Maricopa | City of Peoria (10-09-1908P) | October 21, 2010, October 28, 2010, Arizona Business Gazette | The Honorable Bob Barrett, Mayor, City of Peoria, 8401 West Monroe Street, Peoria, AZ 85345 | Oct. 15, 2010 | 040050
Arizona: Maricopa | Unincorporated areas of Maricopa County (10-09-1908P) | October 21, 2010, October 28, 2010, Arizona Business Gazette | Mr. Don Stapley, Chairman, Maricopa County Board of Supervisors, 301 West Jefferson Street, 10th Floor, Phoenix, AZ 85003 | Oct. 15, 2010 | 040037
Arizona: Pinal | City of Casa Grande (10-09-1532P) | November 12, 2010, November 19, 2010, Casa Grande Dispatch | The Honorable Robert M. Jackson, Mayor, City of Casa Grande, 510 East Florence Boulevard, Casa Grande, AZ 85222 | Nov. 5, 2010 | 040080
Arizona: Pinal | City of Maricopa (10-09-2020P) | November 4, 2010, November 11, 2010, Casa Grande Dispatch | The Honorable Anthony Smith, Mayor, City of Maricopa, 45145 West Madison Avenue, Maricopa, AZ 85239 | Mar. 11, 2011 | 040052
Arizona: Pinal | Unincorporated areas of Pinal County (10-09-2020P) | November 4, 2010, November 11, 2010, Casa Grande Dispatch | Mr. Pete Rios, Chairman, Pinal County Board of Supervisors, P.O. Box 827, Florence, AZ 85132 | Mar. 11, 2011 | 040077
Arizona: Yavapai | Unincorporated areas of Yavapai County (10-09-0470P) | November 10, 2010, November 17, 2010, The Daily Courier | Mr. Chip Davis, Chairman, Yavapai County Board of Supervisors, 10 South 6th Street, Cottonwood, AZ 86326 | Mar. 17, 2011 | 040093
Colorado: El Paso | City of Colorado Springs (10-08-0460P) | October 27, 2010, November 3, 2010, El Paso County Advertiser and News | The Honorable Lionel Riviera, Mayor, City of Colorado Springs, P.O. Box 1575, Colorado Springs, CO 80901 | Nov. 17, 2010 | 080060
Colorado: Summit | Unincorporated areas of Summit County (10-08-0470P) | November 5, 2010, November 12, 2010, Summit County Journal | Mr. Bob French, Chairman, Summit County Board of Commissioners, P.O. Box 68, Breckenridge, CO 80424 | Nov. 29, 2010 | 080290
Colorado: Weld | Town of Firestone (10-08-0823P) | October 8, 2010, October 15, 2010, The Greeley Tribune | The Honorable Chad Auer, Mayor, Town of Firestone, P.O. Box 100, Firestone, CO 80520 | Feb. 14, 2011 | 080241
Colorado: Weld | Town of Frederick (10-08-0823P) | October 8, 2010, October 15, 2010, The Greeley Tribune | The Honorable Eric Doering, Mayor, Town of Frederick, P.O. Box 435, Frederick, CO 80530 | Feb. 14, 2011 | 080244
Colorado: Weld | Unincorporated areas of Weld County (10-08-0823P) | October 8, 2010, October 15, 2010, The Greeley Tribune | Mr. Douglas Rademacher, Chairman, Weld County Board of Commissioners, P.O. Box 758, Greeley, CO 80632 | Feb. 14, 2011 | 080266
Florida: Collier | City of Marco Island (10-04-7495P) | November 5, 2010, November 12, 2010, Naples Daily News | Mr. James Riviere, Ph.D., Manager, City of Marco Island, 50 Bald Eagle Drive, Marco Island, FL 34145 | Oct. 27, 2010 | 120426
Florida: Leon | Unincorporated areas of Leon County (10-04-8400P) | October 29, 2010, November 5, 2010, Tallahassee Democrat | Mr. Parwez Alam, Leon County Administrator, 301 South Monroe Street, Tallahassee, FL 32301 | Mar. 7, 2011 | 120143
Florida: Okaloosa | Unincorporated areas of Okaloosa County (10-04-8273P) | November 16, 2010, November 23, 2010, Northwest Florida Daily News | Mr. Wayne R. Harris, Chairman, Okaloosa County Board of Commissioners, 1804 Lewis Turner Boulevard, Suite 100, Fort Walton Beach, FL 32547 | Nov. 8, 2010 | 120173
Florida: Sarasota | City of Sarasota (10-04-6569P) | November 5, 2010, November 12, 2010, Sarasota Herald-Tribune | The Honorable Kelly M. Kirschner, Mayor, City of Sarasota, 1565 1st Street, Room 101, Sarasota, FL 34236 | Oct. 28, 2010 | 125150
Georgia: Bryan | City of Richmond Hill (10-04-6327P) | November 3, 2010, November 10, 2010, Bryan County News | The Honorable E. Harold Fowler, Mayor, City of Richmond Hill, P.O. Box 250, Richmond Hill, GA 31324 | Mar. 10, 2011 | 130018
Georgia: Forsyth | Unincorporated areas of Forsyth County (10-04-6459P) | October 27, 2010, November 3, 2010, Forsyth County News | Mr. Charlie Laughinghouse, Chairman, Forsyth County Board of Commissioners, 110 East Main Street, Suite 210, Cumming, GA 30040 | Nov. 17, 2010 | 130312
Georgia: Lamar | City of Barnesville (10-04-1925P) | August 24, 2010, August 31, 2010, The Herald-Gazette | The Honorable Peter Banks, Mayor, City of Barnesville, 109 Forsyth Street, Barnesville, GA 30204 | Dec. 29, 2010 | 130207
Georgia: Tift | City of Tifton (09-04-7386P) | November 19, 2010, November 26, 2010, The Tifton Gazette | Mr. J. G. Cater, Jr., Chairman, Tift County Board of Commissioners, P.O. Box 229, Tifton, GA 31793 | Mar. 28, 2011 | 130171
Georgia: Tift | Unincorporated areas of Tift County (09-04-7386P) | November 19, 2010, November 26, 2010, The Tifton Gazette | Mr. Grady Thompson, Chairman, Tift County Commission, 225 North Tift Avenue, Tifton, GA 31794 | Mar. 28, 2011 | 130404
Mississippi: DeSoto | City of Olive Branch (10-04-1806P) | November 2, 2010, November 9, 2010, DeSoto Times-Tribune | The Honorable Sam Rikard, Mayor, City of Olive Branch, 9200 Pigeon Roost Road, Olive Branch, MS 38654 | Mar. 9, 2011 | 280286
Montana: Yellowstone | Unincorporated areas of Yellowstone County (09-08-0713P) | June 10, 2010, June 17, 2010, The Billings Gazette | Mr. Bill Kennedy, Chairperson, Yellowstone County Board of Commissioners, P.O Box 35000, Billings, MT 59107 | May 28, 2010 | 300142
North Carolina: Alamance | Unincorporated areas of Alamance County (10-04-6308P) | October 27, 2010, November 3, 2010, The Times-News | Mr. Craig F. Honeycutt, Alamance County Manager, 124 West Elm Street, Graham, NC 27253 | Mar. 3, 2011 | 370001
North Carolina: Durham | City of Durham (09-04-5502P) | November 27, 2009, December 4, 2009, The Herald Sun | The Honorable William V. Bell, Mayor, City of Durham, Office of the Mayor, 101 City Hall Plaza, Durham, North Carolina 27701 | Apr. 5, 2010 | 370086
North Carolina: Mecklenburg | City of Charlotte (10-04-7369P) | October 29, 2010, November 5, 2010, The Charlotte Observer | The Honorable Anthony Foxx, Mayor, City of Charlotte, 600 East 4th Street, Charlotte, NC 28202 | Mar. 7, 2011 | 370159
North Carolina: Union | Unincorporated areas of Union County (10-04-7369P) | October 29, 2010, November 5, 2010, The Enquirer-Journal | Mr. Jerry Simpson, Chairman, Union County Board of Commissioners, 500 North Main Street, Monroe, NC 28112 | Mar. 7, 2011 | 370234
South Dakota: Lawrence | City of Spearfish (10-08-0269P) | November 10, 2010, November 17, 2010, Black Hills Pioneer | The Honorable Jerry Krambeck, Mayor, City of Spearfish, 625 North 5th Street, Spearfish, SD 57783 | Nov. 3, 2010 | 460046
South Dakota: Minnehaha | City of Brandon (10-08-0604P) | November 10, 2010, November 17, 2010, Argus Leader | The Honorable Larry Beesley, Mayor, City of Brandon, 212 7th Avenue, Brandon, SD 57005 | Mar. 17, 2011 | 460296
South Dakota: Minnehaha | Unincorporated areas of Minnehaha County (10-08-0604P) | November 10, 2010, November 17, 2010, Argus Leader | Ms. Anne Hajek, Chair, Minnehaha County Board of Commissioners, 415 North Dakota Avenue, Sioux Falls, SD 57104 | Mar. 17, 2011 | 460057
Utah: Utah | City of Spanish Fork (10-08-0282P) | October 8, 2010, October 15, 2010, The Daily Herald | The Honorable G. Wayne Anderson, Mayor, City of Spanish Fork, 40 South Main Street, Spanish Fork, UT 84660 | Feb. 14, 2011 | 490241
Utah: Utah | Unincorporated areas of Utah County (10-08-0282P) | October 8, 2010, October 15, 2010, The Daily Herald | Mr. Steve White, Chairman, Utah County Board of Commissioners, 100 East Center Street, Provo, UT 84606 | Feb. 14, 2011 | 495517

(Catalog of Federal Domestic Assistance No. 97.022, “Flood Insurance.”)

Dated: January 7, 2011.
Sandra K. Knight,
Deputy Federal Insurance and Mitigation Administrator, Mitigation, Department of Homeland Security, Federal Emergency Management Agency.

[FR Doc. 2011-838 Filed 1-14-11; 8:45 am]

BILLING CODE 9110-12-P